DEPARTMENT OF AGRICULTURE

Grain Inspection, Packers and Stockyards Administration

Proposed Posting, Posting and Deposting of Stockyards

AGENCY: Grain Inspection, Packers and Stockyards Administration, USDA.

ACTION: Notice; clarifying text.

SUMMARY: The Grain Inspection, Packers and Stockyards Administration published a document in the Federal Register on July 6, 2004, concerning the proposed posting, posting and deposting of stockyards. The document shows the facility number for Shamrock Livestock Commission, Shamrock, Texas is the same as the facility number assigned to Texas Cattle Exchange, Inc., Eastland, Texas (TX-346).

FOR FURTHER INFORMATION CONTACT: S. Brett Offutt, Director, Policy and Litigation Division, P&SP, GIPSA, 1400 Independence Ave., SW., Washington, DC 20250, (202) 720-7363 or e-mail: s.brett.offutt@usda.gov.

Clarification

In the Federal Register of July 6, 2004, in FR Doc. 04-15215, on page 40598, a chart shows the facility number, stockyard name and location, and date of posting of 11 stockyards. To clarify, the facility number for Shamrock Livestock Commission, Shamrock, Texas as follows:

Facility number | Stockyard name and location | Date of posting
TX-355 | Shamrock Livestock Commission, Shamrock, Texas | November 3, 2003

J. Dudley Butler,
Administrator, Grain Inspection, Packers and Stockyards Administration.

[FR Doc. 2010-2020 Filed 1-29-10; 8:45 am]

BILLING CODE 3410-KD-P